DEPARTMENT OF HEALTH AND HUMAN SERVICES

Administration for Community Living

Agency Information Collection Activities; Proposed Collection; Comment Request; Chronic Disease Self-Management Education Program Standardized Data Collection

AGENCY: Administration on Aging (AoA), Administration for Community Living (ACL), HHS.

ACTION: Notice.

SUMMARY: The Administration on Aging (AoA), now part of the Administration for Community Living, is announcing that the proposed collection of information listed below has been submitted to the Office of Management and Budget (OMB) for review and clearance under the Paperwork Reduction Act of 1995.

DATES: Submit written comments on the collection of information by April 19, 2013.

ADDRESSES: OIRA_submission@omb.eop.gov or by fax to 202.395.5806. Attn: OMB Desk Officer for ACL, Office of Information and Regulatory Affairs, OMB.

FOR FURTHER INFORMATION CONTACT: Michele Boutaugh, 404-987-3411 or Michele.boutaugh@acl.hhs.gov.

SUPPLEMENTARY INFORMATION: In compliance with 44 U.S.C. 3507, the Administration on Aging (now part of the Administration for Community Living) has submitted the following proposed collection of information to OMB for review and clearance.

The “Empowering Older Adults and Adults with Disabilities through Chronic Disease Self-Management Education (CDSME) Programs” cooperative agreement program is financed through 2012 Prevention and Public Health Funds. The proposed data collection is necessary for monitoring grant program operations and outcomes. AoA proposes to gather information to monitor grantee progress, record location of sites where workshops are held which will allow mapping of the delivery infrastructure, and document participant attendance and demographic and health characteristics. The proposed Participant Survey requests the participants' gender, zip code and birthdate to allow for potential Medicare claims matching and an analysis of changes in health care utilization post participation.

In response to the 60-day Federal Register notice related to this proposed data collection and published on July 23, 2013, four sets of comments were received. Concern was expressed about the collection of sensitive personal information. Most of the remaining comments provided suggestions for enhancing the quality and clarity of the information to be collected. The comments resulted in some revisions to the proposed data collection tools. The originally proposed data collection tools, the comments with responses and a revised set of data collection tools may be found on the AoA Web site at: http://www.aoa.gov/AoARoot/AoA_Programs/Tools_Resources/collection_tools.aspx.

ACL estimates the burden of this collection of information as 440 hours for State Governments, 1050 hours for local agency staff, and 2,500 hours for individuals—Total burden is 3,990 hours per year.

Dated: March 15, 2013.
Kathy Greenlee,
Administrator and Assistant Secretary for Aging.

[FR Doc. 2013-06390 Filed 3-19-13; 8:45 am]

BILLING CODE 4154-01-P